DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received By EDA for Certification of Eligibility To Apply for Trade Adjustment 5/27/2009 Through 7/6/2009
Firm | Address | Date accepted for filing | Products
Rowley Spring and Stamping Corp | 210 Redstone Hill Road, Bristol, CT 06010 | 6/2/2009 | Rowley manufactures springs, progressive die stamping, wire forms, four slide stampings, assemblies, tape and reel packaging.
Steiner Techologies, Inc | 180 Perinton Parkway, Fairport, NY 14450 | 6/8/2009 | Engineered metal cutting tools, primarily automatic back spot facing tools.
Boyd Flotation, Inc. d.b.a. Boyd Specialty Sleep, Inc | 2440 Alde Road, St. Louis, MO 63043 | 6/26/2009 | Specialty sleep mattresses: air beds, latex foam mattresses, memory foam mattresses, adjustable & flotation mattresses.
Carr Machine and Tool, Inc | 1301 Jarvis Avenue, Elk Grove, IL 60007 | 5/27/2009 | Machined metal parts for the printing press, automotive, electrical, industrial, aerospace and medical industries.
Fashion Accents Corp | 100 Nashua Street, Providence, RI 02904 | 6/2/2009 | Costume jewelry and earrings for sensitive skin. Also, imports miscellaneous accessories and home items for kitchen and dining.
Burle Industries, Inc | 1000 New Holland Avenue, Lancaster, PA 17601 | 6/19/2009 | Power tubes and associated circuit components used in various capacities including cathode ray tubes.
Comdel, Inc. | 11 Kondelin Road, Gloucester, MA 01930 | 6/15/2009 | Custom RF power suppliers and DC power suppliers.
Toyal America, Inc | 17401 South Broadway, Lockport, IL 60441 | 6/29/2009 | Aluminum pigments, pastes, flakes, and powders.
Max Machinery, Inc. | 33A Healdsburg Avenue, Healdsburg, CA 95448 | 6/25/2009 | Precision flow measurement equipment.
Double E Parent, LLC | 319 Manley Street, West, MA 02379 | 6/25/2009 | Core chuck and core shaft products as well as other related mechanical tools and accessories.
Worthen Industries, Inc | 3 East Spit Brook Road, Nashua, NH 03060 | 6/29/2009 | Industrial adhesives, coated fabric and paper and extruded film for various end uses.
Eldorado Artesian Springs, Inc | 1783 Dogwood Street, Louisville, CA 80027 | 6/19/2009 | Natural spring water and enhanced vitamin water.
Hartford House, Inc | 126 Anderson Circle, Alto, GA 30510 | 6/16/2009 | Handcrafted furniture for both home and office.
Highland Craftsmen Inc | 534 Oak Avenue, Spruce Pine, NC 28777 | 6/25/2009 | Wood shingles.
Newmark Furniture Co., Inc. | 300 Dewitt Avenue, Brooklyn, NY 11236 | 6/25/2009 | Custom wood interiors for residential homes including kitchen cabinets, vanities, libraries and paneling.
RAE Corporation | P.O. Box 1206, Pryor, OK 74362 | 6/29/2009 | Air conditioning and refrigeration.
Norris International Group, LLC | 42156 N. 10th St., West Unit R, Lancaster, CA 93534 | 7/6/2009 | Optical anti-identity theft and counterfeit protection devices.
Performance Fibers, Inc | 338 Pea Ridge Road, New Hill, NC 27562 | 7/1/2009 | Industrial polyester yarns and tire yarns.
Penz Products, Inc. | 1320 S. Merrifield Avenue, Mishawaka, IN 46544 | 6/25/2009 | Plastic and metal components.
QMI, Inc. | 4258 Zarrow, Pryor, OK 74362 | 6/25/2009 | Custom converting, perforation machines.
Segue Manufacturing Services, LLC | 70 Industrial Avenue, Lowell, MA 01852 | 6/29/2009 | Full turnkey contract manufacturing solutions, utilizing low cost engineering, electro-mechanical design expertise, global sourcing, cable and harness manufacturing and in-house machining capabilities.
Tote Along Inc. | P.O. Box 1222, Miami, OK 74355 | 6/24/2009 | Soft luggage, garment bags, bags to store items.
J&M Plating, Inc. | 4500 Kishwaukee St., Rockford, IL 61109 | 5/27/2009 | Heat treating, plating, sorting, specialty finishes and quality machine inspection services.
McNally Industries, LLC | 5445 DTC Parkway, Greenwood, CO 80111 | 6/29/2009 | Defense related equipment and aircraft components and parts for commercial aircraft.

Any party having a substantial interest in these proceedings may request a public hearing on the matter. A written request for a hearing must be submitted to the Office of Performance Evaluation, Room 7009, Economic Development Administration, U.S. Department of Commerce, Washington, DC 20230, no later than ten (10) calendar days following publication of this notice. Please follow the procedures set forth in Section 315.9 of EDA's final rule (71 FR 56704) for procedures for requesting a public hearing. The Catalog of Federal Domestic Assistance official program number and title of the program under which these petitions are submitted is 11.313, Trade Adjustment Assistance.

Dated: July 8, 2009.
William P. Kittredge,
Program Officer for TAA.

[FR Doc. E9-16765 Filed 7-14-09; 8:45 am]

BILLING CODE 3510-24-P